DEPARTMENT OF HEALTH AND HUMAN SERVICES

National Institutes of Health

Center for Scientific Review; Notice of Closed Meetings

Pursuant to section 10(d) of the Federal Advisory Committee Act, as amended (5 U.S.C. appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel, Fetal Basis of Adult Disease.

Date: November 14-15, 2002.

Time: 8 a.m. to 5 p.m.

Agenda: To review and evaluate grant applications.

Place: Holiday Inn Bethesda, Versailles Room 4, 8120 Wisconsin Avenue, Bethesda, MD 20814.

Contact Person: Dennis Leszczynski, PhD, Scientific Review Administrator, Center for Scientific Review, National Institutes of Health, 6701 Rockledge Drive, Room 6170, MSC 7892, Bethesda, MD 20892. (301) 435-1044.

Name of Committee: Center for Scientific Review Special Emphasis Panel, ZRG1: SSS-7 (10): Small Business Applications on Imaging Technologies B.

Date: November 19, 2002.

Time: 8 a.m. to 5 p.m.

Agenda: To review and evaluate grant applications.

Place: Holiday Inn—Chevy Chase, Wisconsin Avenue, Chevy Chase, MD 20815.

Contact Person: Tracy E. Orr, PhD, Scientific Review Administrator, Center for Scientific Review, National Institutes of Health, 6701 Rockledge Dr., Room 5112, Bethesda, MD 20892. (301) 435-1259. orrt@csr.nih.gov.

Name of Committee: Center for Scientific Review Special Emphasis Panel, ZRG1: SSS-M (15) Nephrology/Urology SBIR.

Date: November 19, 2002.

Time: 8:30 a.m. to 5 p.m.

Agenda: To review and evaluate grant applications.

Place: Holiday Inn Select, 8120 Wisconsin Avenue, Bethesda, MD 20814.

Contact Person: Jean D. Sipe, Ph.D., Scientific Review Administrator, Center for Scientific Review, National Institutes of Health, 6701 Rockledge Drive, Rm. 4106, MSC 7814, Bethesda, MD 20892-7814. 301/435-1743. sipej@csr.nih.gov.

Name of Committee: Center for Scientific Review Special Emphasis Panel, Oral, Craniofacial and Dental Sciences SBIR/STTR Panel.

Date: November 19, 2002.

Time: 10 a.m. to 3 p.m.

Agenda: To review and evaluate grant applications.

Place: The River Inn, 924 Twenty-Fifth Street, NW., Washington, DC 20037.

Contact Person: J. Terrell Hoffeld, DDS, Ph.D., Dental Officer, USPHS, Center for Scientific Review, National Institutes of Health, 6701 Rockledge Drive, Room 4116, MSC 7816, Bethesda, MD 20892, 301/435-1781. th88q@nih.gov.

Name of Committee: Center for Scientific Review Special Emphasis Panel, Member Conflict: Developmental Disabilities.

Date: November 19, 2002.

Time: 11:30 a.m. to 12:30 p.m.

Agenda: To review and evaluate grant applications.

Place: NIH, Rockledge 2, Bethesda, MD 20892. (Telephone Conference Call).

Contact Person: Cheri Wiggs, Ph.D., Scientific Review Administrator, Center for Scientific Review, National Institutes of Health, 6701 Rockledge Drive, Room 3180, MSC 7848, Bethesda, MD 20892. (301) 435-1261.

Name of Committee: Center for Scientific Review Special Emphasis Panel, Special Topics: Tumor Hypoxia and Apoptosis.

Date: November 19, 2002.

Time: 1 p.m. to 3 p.m.

Agenda: To review and evaluate grant applications.

Place: NIH, Rockledge 2, Bethesda, MD 20892. (Telephone Conference Call).

Contact Person: Shen K. Yang, Ph.D., Scientific Review Administrator, Center for Scientific Review, National Institutes of Health, 6701 Rockledge Drive, Room 4138, MSC 7804, Bethesda, MD 20892. (301) 435-1213. yangsh@csr.nih.gov.

Name of Committee: Center for Scientific Review Special Emphasis Panel, ZRG1 IFCN (3) Neurobiology of Alcohol and Stress.

Date: November 19, 2002.

Time: 2 p.m. to 5 p.m.

Agenda: To review and evaluate grant applications.

Place: NIH, Rockledge 2, Bethesda, MD 20892. (Telephone Conference Call).

Contact Person: Gamil C. Debbas, Ph.D., Scientific Review Administrator, Center for Scientific Review, National Institutes of Health, 6701 Rockledge Drive, Room 5170, MSC 7844, Bethesda, MD 20892. (301) 435-1247. eskayr@csr.nih.gov.

Name of Committee: Center for Scientific Review Special Emphasis Panel, ZRG1 CDF-5 01M: Member Conflict: Dab2 Adaptor Proteins.

Date: November 19, 2002.

Time: 2 p.m. to 3 p.m.

Agenda: To review and evaluate grant applications.

Place: NIH, Rockledge 2, Bethesda, MD 20892. (Telephone Conference Call).

Contact Person: Sherry L. Dupere, Ph.D., Scientific Review Administrator, Center for Scientific Review, National Institutes of Health, 6701 Rockledge Drive, Room 5136, MSC 7840, Bethesda, MD 20892. (301) 435-1021. duperes@csr.nih.gov.

Name of Committee: Center for Scientific Review Special Emphasis Panel, ZRG1 MEP01M: HSP and cancer.

Date: November 19, 2002.

Time: 4 p.m. to 5 p.m.

Agenda: To review and evaluate grant applications.

Place: NIH, Rockledge 2, Bethesda, MD 20892. (Telephone Conference Call).

Contact Person: Angela Y. Ng, Ph.D., MBA, Scientific Review Administrator, Center for Scientific Review, National Institutes of Health, 6701 Rockledge Drive, Room 4142, MSC 7804, (For courier delivery, use MD 20817), Bethesda, MD 20892. 301-434-1715, nga@csr.nih.gov.

Name of Committee: Center for Scientific Review Special Emphasis Panel, Brain Disorders and Clinical Neuroscience/ZRG1 BDCN-5 (10) SBIR.

Date: November 20-21, 2002.

Time: 8:30 a.m. to 5 p.m.

Agenda: To review and evaluate grant applications.

Place: St. Gregory Hotel, 2033 M Street, NW., Washington, DC 20036-3305.

Contact Person: Sherry L. Stuesse, Ph.D., Scientific Review Administrator, Division of Clinical and Population-Based Studies, Center for Scientific Review, National Institutes of Health, 6701 Rockledge Drive, Room 5188, MSC 7846, Bethesda, MD 20892. 301-435-1785. stuesses@csr.nih.gov.

Name of Committee: Center for Scientific Review Special Emphasis Panel, ZRG1 PTHB 04M: Member Conflict: Carcinogenesis: DNA Damage.

Date: November 20, 2002.

Time: 1 p.m. to 3 p.m.

Agenda: To review and evaluate grant applications.

Place: NIH, Rockledge 2, Bethesda, MD 20892. (Telephone Conference Call).

Contact Person: Martin L. Padarathsingh, Ph.D., Scientific Review Administrator, Center for Scientific Review, National Institutes of Health, 6701 Rockledge Drive, Room 4146, MSC 7804, Bethesda, MD 20892. 301-435-1717.

Name of Committee: Center for Scientific Review Special Emphasis Panel, Metastasis and Invasion.

Date: November 20, 2002.

Time: 1 p.m. to 3 p.m.

Agenda: To review and evaluate grant applications.

Place: NIH, Rockledge 2, Bethesda, MD 20892. (Telephone Conference Call).

Contact Person: Victor A. Fung, Ph.D., Scientific Review Administrator, Oncological Sciences Initial Review Group, Center for Scientific Review, National Institutes of Health, 6701 Rockledge Drive, Room 6178, MSC 7804, Bethesda, MD 20814-9692. 301-435-3504 vf6n@nih.gov.

Name of Committee: Center for Scientific Review Special Emphasis Panel, ZRG1 BBCB 03: PA-01-049; Single Molecule Studies of Membranes.

Date: November 20, 2002.

Time: 1:30 p.m. to 2:30 p.m.

Agenda: To review and evaluate grant applications.

Place: NIH, Rockledge 2, Bethesda, MD 20892. (Telephone Conference Call).

Contact Person: Arnold Revzin, Ph.D., Scientific Review Administrator, Center for Scientific Review, National Institutes of Health, 6701 Rockledge Drive, Room 4184, MSC 7824, Bethesda, MD 20892. (301) 435-1153.

Name of Committee: Center for Scientific Review Special Emphasis Panel, ZRG1 SSS-C (04) BBBP-1 Member Reviews in the Neurobiology of Addiction.

Date: November 20, 2002.

Time: 2 p.m. to 3:30 p.m.

Agenda: To review and evaluate grant applications.

Place: NIH, Rockledge 2, Bethesda, MD 20892. (Telephone Conference Call).

Contact Person: Mary Sue Krause, MED, Scientific Review Administrator, Center for Scientific Review, National Institutes of Health, 6701 Rockledge Drive, Room 3182, MSC 7848, Bethesda, MD 20892. 301-435-0902. krausem@csr.nih.gov.

Name of Committee: Center for Scientific Review Special Emphasis Panel, ZRG1 F02A (20) Fellowships: integrative, Functional & Cognitive Neurosciences.

Date: November 21, 2002.

Time: 8 a.m. to 4 pm.

Agenda: To review and evaluate grant applications.

Place: Holiday Inn, 5520 Wisconsin Avenue, Chevy Chase, MD 20815.

Contact Person: Gamil C. Debbas, Ph.D., Scientific Review Administrator, Center for Scientific Review, National Institutes of Health, 6701 Rockledge Drive, Room 5170, MSC 7844, Bethesda, MD 20892. (301 435-1018. debbasg@csr.nih.gov.

Name of Committee: Center for Scientific Review Special Emphasis Panel, ZRG1 F04 20L: Chemistry/Biophysics Fellowships Panel.

Date: November 21-22, 2002.

Time: 8 a.m. to 6 pm.

Agenda: To review and evaluate grant applications.

Place: Holiday Inn, 8120 Wisconsin Avenue, Chevy Chase, MD 20814.

Contact Person: David R. Jollie, Ph.D., Scientific Review Administrator, Center for Scientific Review, National Institutes of Health, 6701 Rockledge Drive, Room 4156, MSC 7806, Bethesda, MD 20892. (301) 435-1722. joieda@csr.nih.gov.

Name of Committee: Center for Scientific Review Special Emphasis Panel, Ethical, Legal and Social Implications of Genetics.

Date: November 21-22, 2002.

Time: 8:30 a.m. to 3 pm.

Agenda: To review and evaluate grant applications.

Place: The Hyatt Regency Hotel, One Bethesda Metro Center, Bethesda, MD 20814.

Contact Person: Cheryl M. Corsaro Ph.D., Genetic Sciences IRG, Center for Scientific Review, National Institutes of Health, 6701 Rockledge Drive, Room 2204, MSC 7890, Bethesda, MD 20892. (30) 435-1045. coraroc@csr.nih.gov.

Name of Committee: Center for Scientific Review Special Emphasis Panel, Nero SBIR.

Date: November 21, 2002.

Time: 8:30 a.m. to 5 pm.

Agenda: To review and evaluate grant applications.

Place: Jurys Washington Hotel, 1500 New Hampshire Avenue, NW., Washington, DC 20036.

Contact Person: Michael A. Lang, Ph.D., Scientific Review Administrator, Center for Scientific Review, National Institutes of Health, 6701 Rockledge Drive, Room 5210, MSC 7850, Bethesda, MD 20892. (301) 435-1265.

Name of Committee: Center for Scientific Review Special Emphasis Panel, ZRG1 EDC-2A 10B: Small Business: Social Sciences, Nursing, Epidemiology & Methods.

Date: November 21-22, 2002.

Time: 8 a.m. to 4 pm.

Agenda: To review and evaluate grant applications.

Place: The Madison Hotel, 15th and M Streets, NW., Washington, DC 20005.

Contact Person: Denise Wiesch, Ph.D., Scientific Review Administrator, Center for Scientific Review, National Institutes of Health, 6701 Rockledge Drive, Room 3150, MSC 7770, Bethesda, MD 20892. (301) 435-0684.

Name of Committee: Center for Scientific Review Special Emphasis Panel, Brain Disorders and Clinical Neuroscience/ZRG1 BDCN-2 (10).

Date: November 21, 2002.

Time: 8:30 a.m. to 5 p.m.

Agenda: To review and evaluate grant applications.

Place: Holiday Inn Chevy Chase, 5520 Wisconsin Avenue, Chevy Chase, MD 20815.

Contact Person: William C. Benzing, Ph.D., Scientific Review Administrator, Center for Scientific Review, National Institutes of Health, 6701 Rockledge Drive, Room 5190, MSC 7846, Bethesda, MD 20892. (301) 435-1254. benzingw@mail.nih.gov.

Name of Committee: Center for Scientific Review Special Emphasis Panel, Molecular Genetics.

Date: November 21, 2002.

Time: 10 a.m. to 11 a.m.

Agenda: To review and evaluate grant applications.

Place: NIH, Rockledge 2, Bethesda, MD 20892. (Telephone Conference Call).

Contact Person: Sharon K. Gubanich, Ph.D., Scientific Review Administrator, Center for Scientific Review, National Institutes of Health, 6701 Rockledge Drive, Room 4140, MSC 7804, Bethesda, MD 20892. (301) 435-1767.

Name of Committee: Center for Scientific Review Special Emphasis Panel, ZRG1 GRM (03) Musculoskeletal & Dental Sciences.

Date: November 21, 2002.

Time: 11 a.m. to 1:30 p.m.

Agenda: To review and evaluate grant applications.

Place: NIH, Rockledge 2, Bethesda, MD 20892. (Telephone Conference Call).

Contact Person: Jo Pelham, BA, Scientific Review Administrator, Center for Scientific Review, National Institutes of Health, 6701 Rockledge Drive, Room 4102, MSC 7814, Bethesda, MD 20892. (301) 435-1786.

Name of Committee: Center for Scientific Review Special Emphasis Panel, Member Conflict: Oncogene Amplification.

Date: November 21, 2002.

Time: 1 p.m. to 2 p.m.

Agenda: To review and evaluate grant applications.

Place: NIH, Rockledge 2, Bethesda, MD 20892. (Telephone Conference Call).

Contact Person: Shen K. Yang, Ph.D., Scientific Review Administrator, Center for Scientific Review, National Institutes of Health, 6701 Rockledge Drive, Room 4138, MSC 7804, Bethesda, MD 20892. (301) 435-1213. yangsh@csr.nih.gov.

Name of Committee: Center for Scientific Review Special Emphasis Panel, Demography of Long Term Care.

Date: November 21, 2002.

Time: 1:30 p.m. to 2:30 p.m.

Agenda: To review and evaluate grant applications.

Place: NIH, Rockledge 2, Bethesda, MD 20892. (Telephone Conference Call).

Contact Person: Robert Weller, Ph.D., Scientific Review Administrator, Center for Scientific Review, National Institutes of Health, 6701 Rockledge Drive, Room 3160, MSC 7770, Bethesda, MD 20892. (301) 435-0694.

Name of Committee: Center for Scientific Review Special Emphasis Panel, Brain Disorders and Clinical Neuroscience/ZRG1 BDCN-2(11).

Date: November 22, 2002.

Time: 8:30 a.m. to 12:30 p.m.

Agenda: To review and evaluate grant applications.

Place: Holiday Inn Chevy Chase, 5520 Wisconsin Avenue, Chevy Chase, MD 20815.

Contact Person: William C. Benzing, Ph.D., Scientific Review Administrator, Center for Scientific Review, National Institutes of Health, 6701 Rockledge Drive, Room 5190, MSC 7846, Bethesda, MD 20892. (301) 435-1254. benzingw@mail.nih.gov.

Name of Committee: Center for Scientific Review Special Emphasis Panel, Adolescent Substance Use Prevention & Smoking Cessation.

Date: November 22, 2002.

Time: 8:30 a.m. to 5 p.m.

Agenda: To review and evaluate grant applications.

Place: Melrose Hotel, 2430 Pennsylvania Ave., NW., Washington, DC 20037.

Contact Person: Karen Sirocco, Ph.D., Scientific Review Administrator, Center for Scientific Review, National Institutes of Health, 6701 Rockledge Drive, Room 3184, MSC 7848, Bethesda, MD 20892. (301) 435-0676. siroccok@csr.nih.gov.

Name of Committee: Center for Scientific Review Special Emphasis Panel, Computational Neuroscience.

Date: November 22, 2002.

Time: 10:30 a.m. to 12 p.m.

Agenda: To review and evaluate grant applications.

Place: NIH, Rockledge 2, Bethesda, MD 20892. (Telephone Conference Call).

Contact Person: John Bishop, Ph.D., Scientific Review Administrator, Center for Scientific Review, National Institutes of Health, 6701 Rockledge Drive, Room 5180, MSC 7844, Bethesda, MD 20892. (301) 435-1250.

Name of Committee: Center for Scientific Review Special Emphasis Panel, ZRG1 PC (02): DNA Metabolism.

Date: November 22, 2002.

Time: 1 p.m. to 2 p.m.

Agenda: To review and evaluate grant applications.

Place: NIH, Rockledge 2, Bethesda, MD 20892. (Telephone Conference Call).

Contact Person: Richard Panniers, Ph.D., Scientific Review Administrator, Center for Scientific Review, National Institutes of Health, 6701 Rockledge Drive, Room 5148, 7842, Bethesda, MD 20892. (301) 435-1741.

Name of Committee: Center for Scientific Review Special Emphasis Panel, SNEM 5—Member Applications.

Date: November 22, 2002.

Time: 1 p.m. to 3 p.m.

Agenda: To review and evaluate grant applications.

Place: NIH, Rockledge 2, Bethesda, MD 20892. (Telephone Conference Call).

Contact Person: Yvette M. Davis, VMD, MpH, Scientific Review Administrator, Center for Scientific Review, National Institutes of Health, 6701 Rockledge Drive, Room 3152, MSC 7770, Bethesda, MD 20892. 301-435-0906.

Name of Committee: Center for Scientific Review Special Emphasis Panel, ZRG1 BBBP-6 (03) Member Conflict Review on Perception, Cognition and Emotion.

Date: November 22, 2002.

Time: 2 p.m. to 4 p.m.

Agenda: To review and evaluate grant applications.

Place: NIH, Rockledge 2, Bethesda, MD 20892. (Telephone Conference Call).

Contact Person: Anita Miller Sostek, Ph.D., Scientific Review Administrator, Center for Scientific Review, National Institutes of Health, 6701 Rockledge Drive, Room 3176, MSC 7848, Bethesda, MD 20892. (301) 435-1260.

Name of Committee: Center for Scientific Review Special Emphasis Panel, ZRG1 SSS-B (02) M: Member Conflict in Biophysical Chemistry.

Date: November 22, 2002.

Time: 2 p.m. to 3 p.m.

Agenda: To review and evaluate grant applications.

Place: NIH, Rockledge 2, Bethesda, MD 20892. (Telephone Conference Call).

Contact Person: Donald Schneider, Ph.D., Scientific Review Administrator, Center for Scientific Review, National Institutes of Health, 6701 Rockledge Drive, Room 4172, MSC 7806, Bethesda, MD 20892. (301) 435-1727.

Name of Committee: Center for Scientific Review Special Emphasis Panel, ZRG1 SSS-7 (40) Research Resources: Nuclear Magnetic Resonance.

Date: November 24-26, 2002.

Time: 7 p.m. to 12 p.m.

Agenda: To review and evaluate grant applications.

Place: Holiday Inn Select, Pittsburgh University Center, 100 Lytton Avenue, Pittsburgh, PA 15213.

Contact Person: Tracy E. Orr, Ph.D., Scientific Review Administrator, Center for Scientific Review, National Institutes of Health, 6701 Rockledge Dr., Room 5112, Bethesda, MD 20892. (301) 435-1259. orrt@csr.nih.gov.

Name of Committee: Center for Scientific Review Special Emphasis Panel, ZRG1 SSS-5 (15) Small Business Orthopedic Medicine.

Date: November 25-26, 2002.

Time: 10 a.m. to 5 p.m.

Agenda: To review and evaluate grant applications.

Place: Hilton Washington Embassy Row, 2015 Massachusetts Avenue NW., Washington, DC 20036.

Contact Person: Nancy Shinowara, Ph.D., Scientific Review Administrator, Center for Scientific Review, National Institutes of Health, 6701 Rockledge Drive, Room 4208, MSC 7814, Bethesda, MD 20892-7814. (301) 435-1173. shinowan@drg.nih.gov.

Name of Committee: Center for Scientific Review Special Emphasis Panel, ZRG1 PTHB 03M: Member Conflict: Carcinogenesis: Vascular Injury.

Date: November 25, 2002.

Time: 2 p.m. to 4 p.m.

Agenda: To review and evaluate grant applications.

Place: NIH, Rockledge 2, Bethesda, MD 20892. (Telephone Conference Call).

Contact Person: Martin L. Padarathsingh, Ph.D., Scientific Review Administrator, Center for Scientific Review, National Institutes of Health, 6701 Rockledge Drive, Room 4146, MSC 7804, Bethesda, MD 20892. (301) 435-1717.

(Catalogue of Federal Domestic Assistance Program Nos. 93.306, Comparative Medicine, 93.306; 93.333, Clinical Research, 93.333, 93.337, 93.393-93.396, 93.837-93.844, 93.846-93.878, 93.892, 93.893, National Institutes of Health, HHS)

Dated: October 28, 2002.
LaVerne Y. Stringfield,
Director, Office of Federal Advisory Committee Policy.

[FR Doc. 02-27899 Filed 11-01-02; 8:45 am]

BILLING CODE 4140-01-M